DEPARTMENT OF HOUSING AND URBAN DEVELOPMENT

[Docket No. FR-5282-N-07]

Notice of Proposed Information Collection: Comment Request; Neighborhood Stabilization Program 2 (NSP 2) Program

AGENCY: Office of Community Planning and Development.

ACTION: Notice of proposed information collection.

SUMMARY: The proposed information collection requirement described below will be submitted to the Office of Management and Budget (OMB) for review as required by the Paperwork Reduction Act. The Department is soliciting public comments on the subject proposal.

DATES: Comments Due Date: November 23, 2009.

ADDRESSES: Interested persons are invited to submit comments regarding this proposal. Comments should refer to the proposal by name and/or OMB Control Number and should be sent to: Lillian L. Deitzer, Reports Management Officer, QDAM, Department of Housing and Urban Development, 451 7th Street, SW., Room 4176, Washington, DC 20410; telephone 202-402-8048 (this is not a toll-free number) or e-mail Ms. Deitzer at Lillian.L.Deitzer@hud.gov for a copy of the proposed form and other available information.

FOR FURTHER INFORMATION CONTACT: Stanley Gimont, Director, Office of Block Grant Assistance, 451 7th Street, SW., Room 7286, Washington, DC 20410; telephone (202) 708-3587 (this is not a toll-free number).

SUPPLEMENTARY INFORMATION: The Department is submitting the proposed information collection to OMB for review, as required by the Paperwork Reduction Act of 1995 (44 U.S.C. Chapter 35, as amended). The Department did not publish a notice in the Federal Register soliciting comments on the emergency request for approval of this information collection. A waiver for this Federal Register Notice was approved by OMB on April 13, 2009.

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Neighborhood Stabilization Program 2 (NSP 2) Program.

OMB Control Number, if Applicable: 2506-0185.

Description of the Need for the Information and Proposed Use: This request identifies the reporting burden associated with information that NSP 2 grantees will report in the Disaster Recovery Grant Reporting System (DRGR) for NSP 2 assisted activities, recordkeeping requirements, and reporting requirements. Section 1512 of the Recovery Act requires that not later than 10 days after the end of each calendar quarter, each recipient that received recovery funds from a Federal agency shall submit a report to that agency that contains: (1) The total amount of recovery funds received from that agency; (2) the amount of recovery funds received that were expended or obligated to projects or activities; and (3) a detailed list of all projects or activities for which recovery funds were expended or obligated, including the name of the project or activity; a description of the project or activity; an evaluation of the completion status of the project or activity; an estimate of the number of jobs created and the number of jobs retained by the project or activity; and for infrastructure investments made by State and local governments, the purpose, total cost, and rationale of the agency for funding the infrastructure investment with funds made available under the Recovery Act and name of the person to contact at the agency if there are concerns with the infrastructure investment. Recipients must also report detailed information on any subcontracts or subgrants awarded by the recipient to include the data elements required to comply with the Federal Funding Accountability and Transparency act of 2006 (Pub. L. 109-282), allowing aggregate reporting on awards below $25,000 or to individuals, as prescribed by the Director of OMB. Not later than 30 calendar days after the end of each calendar quarter, each agency that made Recovery Act funds available to any recipient shall make the information in reports submitted publicly available by posting the information on a Web site.

Agency Form Numbers: None.

Members of the Affected Public: Eligible NSP 2 grantees (States, units of local government, non-profit organizations and consortia that may include for-profit entities).

Estimation of the total numbers of hours needed to prepare the information collection including number of responses, frequency of responses, and hours of responses: The number of respondents is estimated at 80. The proposed frequency of the response to the collection is on a quarterly basis. The total estimated burden is 10,240 annual hours.

Status of the proposed information collection: This submission is an extension of a previously approved emergency information collection. The current OMB approval expires on November 30, 2009.

Authority: The Paperwork Reduction Act of 1995, 44 U.S.C. Chapter 35, as amended.

Dated: September 16, 2009.
Mercedes Márquez,
Assistant Secretary for Community, Planning and Development.

[FR Doc. E9-22967 Filed 9-22-09; 8:45 am]

BILLING CODE 4210-67-P